DEPARTMENT OF ENERGY

Federal Energy Regulatory Commission

Combined Notice of Filings

Take notice that the Commission has received the following Natural Gas Pipeline Rate and Refund Report filings:

Filings Instituting Proceedings

Docket Numbers: RP16-1050-000.

Applicants: Texas Eastern Transmission, LP.

Description: Section 4(d) Rate Filing: Negotiated Rates—Sequent Energy Contract 911362 to be effective 7/1/2016.

Filed Date: 6/29/16.

Accession Number: 20160629-5088.

Comments Due: 5 p.m. ET 7/11/16.

Docket Numbers: RP16-1051-000.

Applicants: Southern Star Central Gas Pipeline, Inc.

Description: Section 4(d) Rate Filing: Vol 2—Non-Conforming Agreement—Chesapeake Energy Marketing, Inc.—Amendment to be effective 7/1/2016.

Filed Date: 6/29/16.

Accession Number: 20160629-5173.

Comments Due: 5 p.m. ET 7/11/16.

Docket Numbers: RP16-1052-000.

Applicants: Transcontinental Gas Pipe Line Company.

Description: Section 4(d) Rate Filing: Negotiated Rates—Cherokee AGL—Replacement Shippers—Jul 2016 to be effective 7/1/2016.

Filed Date: 6/30/16.

Accession Number: 20160630-5001.

Comments Due: 5 p.m. ET 7/12/16.

Docket Numbers: RP16-1053-000.

Applicants: Transcontinental Gas Pipe Line Company.

Description: Section 4(d) Rate Filing: Rock Springs Expansion Initial Rate Filing to be effective 8/1/2016.

Filed Date: 6/30/16.

Accession Number: 20160630-5025.

Comments Due: 5 p.m. ET 7/12/16.

Docket Numbers: RP16-1054-000.

Applicants: Dominion Transmission, Inc.

Description: Section 4(d) Rate Filing: DTI—June 30, 2016 Negotiated Rate Agreement to be effective 7/1/2016.

Filed Date: 6/30/16.

Accession Number: 20160630-5030.

Comments Due: 5 p.m. ET 7/12/16.

Docket Numbers: RP16-1055-000.

Applicants: Questar Overthrust Pipeline Company.

Description: Section 4(d) Rate Filing: Section 35 Version 1.0.0 to be effective 8/1/2016.

Filed Date: 6/30/16.

Accession Number: 20160630-5033.

Comments Due: 5 p.m. ET 7/12/16.

Docket Numbers: RP16-1056-000.

Applicants: Dominion Cove Point LNG, LP.

Description: Section 4(d) Rate Filing: DCP—June 30, 2016 Form of Service Agreement Change to be effective 7/30/2016.

Filed Date: 6/30/16.

Accession Number: 20160630-5042.

Comments Due: 5 p.m. ET 7/12/16.

Docket Numbers: RP16-1057-000.

Applicants: MoGas Pipeline LLC.

Description: Compliance filing MoGas NAESB Compliance Filing to be effective 4/1/2016.

Filed Date: 6/30/16.

Accession Number: 20160630-5059.

Comments Due: 5 p.m. ET 7/12/16.

Docket Numbers: RP16-1058-000.

Applicants: Algonquin Gas Transmission, LLC.

Description: Section 4(d) Rate Filing: Negotiated Rates—EDF Trading contracts 791756 & 791755 to be effective 7/1/2016.

Filed Date: 6/30/16.

Accession Number: 20160630-5069.

Comments Due: 5 p.m. ET 7/12/16.

Docket Numbers: RP16-1059-000.

Applicants: Natural Gas Pipeline Company of America.

Description: Section 4(d) Rate Filing: Clean Up Filing to be effective 7/30/2016.

Filed Date: 6/30/16.

Accession Number: 20160630-5083.

Comments Due: 5 p.m. ET 7/12/16.

Docket Numbers: RP16-1060-000.

Applicants: Destin Pipeline Company, L.L.C.

Description: Section 4(d) Rate Filing: Auxiliary Installation Reimbursement Fee Change—Docket No. RP14-1200 to be effective 7/1/2016.

Filed Date: 6/30/16.

Accession Number: 20160630-5086.

Comments Due: 5 p.m. ET 7/12/16.

Docket Numbers: RP16-1061-000.

Applicants: Dominion Transmission, Inc.

Description: Section 4(d) Rate Filing: DTI—Termination of Gathering & Products Extraction Services (CP16-1) to be effective 8/1/2016.

Filed Date: 6/30/16.

Accession Number: 20160630-5163.

Comments Due: 5 p.m. ET 7/12/16.

Docket Numbers: RP16-1062-000.

Applicants: Gulf South Pipeline Company, LP.

Description: Section 4(d) Rate Filing: Amendment to Neg Rate Agmt (Devon 34694-66) to be effective 7/1/2016.

Filed Date: 6/30/16.

Accession Number: 20160630-5164.

Comments Due: 5 p.m. ET 7/12/16.

Docket Numbers: RP16-1063-000.

Applicants: Gulf South Pipeline Company, LP.

Description: Section 4(d) Rate Filing: Cap Rel Neg Rate Agmt (Petrohawk 41455 to Texla 46616) to be effective 7/1/2016.

Filed Date: 6/30/16.

Accession Number: 20160630-5172.

Comments Due: 5 p.m. ET 7/12/16.

Docket Numbers: RP16-1064-000.

Applicants: Gulf South Pipeline Company, LP.

Description: Section 4(d) Rate Filing: Cap Rel Neg Rate Agmt (Encana 37663 to Texla 46621) to be effective 7/1/2016.

Filed Date: 6/30/16.

Accession Number: 20160630-5178.

Comments Due: 5 p.m. ET 7/12/16.

Docket Numbers: RP16-1065-000.

Applicants: Iroquois Gas Transmission System, L.P.

Description: Measurement Variance/Fuel Use Factors of Iroquois Gas Transmission System, L.P. under RP16-1065.

Filed Date: 6/30/16.

Accession Number: 20160630-5179.

Comments Due: 5 p.m. ET 7/12/16.

Docket Numbers: RP16-1066-000.

Applicants: Rockies Express Pipeline LLC.

Description: Section 4(d) Rate Filing: Neg Rates 2016-06-30 6 Ks to be effective 7/1/2016.

Filed Date: 6/30/16.

Accession Number: 20160630-5183.

Comments Due: 5 p.m. ET 7/12/16.

Docket Numbers: RP16-1067-000.

Applicants: Gulf South Pipeline Company, LP.

Description: Section 4(d) Rate Filing: Cap Rel Neg Rate Agmts (Atlanta Gas 8438 to various eff 7-1-16) to be effective 7/1/2016.

Filed Date: 6/30/16.

Accession Number: 20160630-5231.

Comments Due: 5 p.m. ET 7/12/16.

Docket Numbers: RP16-1068-000.

Applicants: El Paso Natural Gas Company, L.L.C.

Description: Section 4(d) Rate Filing: Negotiated Rate Agreement Update (APS July 2016) to be effective 7/1/2016.

Filed Date: 6/30/16.

Accession Number: 20160630-5235.

Comments Due: 5 p.m. ET 7/12/16.

Docket Numbers: RP16-1069-000.

Applicants: Texas Eastern Transmission, LP.

Description: Section 4(d) Rate Filing: EPC AUG 2016 FILING to be effective 8/1/2016.

Filed Date: 6/30/16.

Accession Number: 20160630-5258.

Comments Due: 5 p.m. ET 7/12/16.

Docket Numbers: RP16-1070-000.

Applicants: Enable Gas Transmission, LLC.

Description: Section 4(d) Rate Filing: Negotiated Rate Filing—June 2016 Entergy Arkansas 8791 to be effective 7/1/2016.

Filed Date: 6/30/16.

Accession Number: 20160630-5296.

Comments Due: 5 p.m. ET 7/12/16.

Docket Numbers: RP16-1071-000.

Applicants: White River Hub, LLC.

Description: Section 4(d) Rate Filing: Non-Conforming TSAs and Original Volume No. 2 to be effective 7/1/2016.

Filed Date: 6/30/16.

Accession Number: 20160630-5341.

Comments Due: 5 p.m. ET 7/12/16.

Docket Numbers: RP16-1072-000.

Applicants: Paiute Pipeline Company.

Description: Compliance filing Adobe Fuel/Imbalance Trading to be effective 9/1/2016.

Filed Date: 6/30/16.

Accession Number: 20160630-5346.

Comments Due: 5 p.m. ET 7/12/16.

Docket Numbers: RP16-1073-000.

Applicants: Midcontinent Express Pipeline LLC.

Description: Section 4(d) Rate Filing: Chesapeake Energy Marketing—Negotiated Rate to be effective 7/1/2016.

Filed Date: 7/1/16.

Accession Number: 20160701-5000.

Comments Due: 5 p.m. ET 7/13/16.

Docket Numbers: RP16-1074-000.

Applicants: Dominion Cove Point LNG, LP.

Description: Section 4(d) Rate Filing: DCP—July 1, 2016 Negotiated Rate Agreement to be effective 8/1/2016.

Filed Date: 7/1/16.

Accession Number: 20160701-5059.

Comments Due: 5 p.m. ET 7/13/16.

Docket Numbers: RP16-1075-000.

Applicants: ETC Tiger Pipeline, LLC.

Description: Section 4(d) Rate Filing: Revised Fuel Provision and Rates to be effective 8/1/2016.

Filed Date: 7/1/16.

Accession Number: 20160701-5064.

Comments Due: 5 p.m. ET 7/13/16.

Docket Numbers: RP16-1076-000.

Applicants: WTG Hugoton, LP.

Description: Compliance filing Annual Fuel Retention Percentage Filing 2015-2016 to be effective 8/1/2016.

Filed Date: 7/1/16.

Accession Number: 20160701-5085.

Comments Due: 5 p.m. ET 7/13/16.

Docket Numbers: RP16-1077-000.

Applicants: Equitrans, L.P.

Description: Section 4(d) Rate Filing: Negotiated Capacity Release Agreements—07/01/2016 to be effective 7/1/2016.

Filed Date: 7/1/16.

Accession Number: 20160701-5107.

Comments Due: 5 p.m. ET 7/13/16.

Docket Numbers: RP16-1078-000.

Applicants: Texas Eastern Transmission, LP.

Description: Section 4(d) Rate Filing: Negotiated Rates—Eco-Energy Contract 8941965 to be effective 7/1/2016.

Filed Date: 7/1/16.

Accession Number: 20160701-5119.

Comments Due: 5 p.m. ET 7/13/16.

Docket Numbers: RP16-1079-000.

Applicants: Dauphin Island Gathering Partners.

Description: Section 4(d) Rate Filing: Negotiated Rate Filing 7-1-16 to be effective 7/1/2016.

Filed Date: 7/1/16.

Accession Number: 20160701-5140.

Comments Due: 5 p.m. ET 7/13/16.

Docket Numbers: RP16-1080-000.

Applicants: Ruby Pipeline, L.L.C.

Description: Request for Waiver of Ruby Pipeline, L.L.C.

Filed Date: 6/30/16.

Accession Number: 20160630-5417.

Comments Due: 5 p.m. ET 7/12/16.

Docket Numbers: RP16-1081-000.

Applicants: Eastern Shore Natural Gas Company.

Description: Section 4(d) Rate Filing: Change in FERC Gas Tariff to be effective 8/1/2016.

Filed Date: 7/1/16.

Accession Number: 20160701-5144.

Comments Due: 5 p.m. ET 7/13/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-549-003.

Applicants: PGPipeline LLC.

Description: Compliance filing Amended NAESB 3.0 Compliance Filing to be effective 4/1/2016.

Filed Date: 6/29/16.

Accession Number: 20160629-5212.

Comments Due: 5 p.m. ET 7/11/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2016.
Nathaniel J. Davis, Sr.,
Deputy Secretary.

[FR Doc. 2016-16665 Filed 7-13-16; 8:45 am]

BILLING CODE 6717-01-P